DEPARTMENT OF TRANSPORTATION

Federal Aviation Administration

14 CFR Part 39

[Docket No. FAA-2020-0171; Product Identifier 2018-SW-028-AD; Amendment 39-21155; AD 2020-14-01]

RIN 2120-AA64

Airworthiness Directives; Bell Textron Inc. (Type Certificate Previously Held by Bell Helicopter Textron Inc.) Helicopters

AGENCY: Federal Aviation Administration (FAA), DOT.

ACTION: Final rule.

SUMMARY: The FAA is adopting a new airworthiness directive (AD) for Bell Textron Inc. (Bell) Model 214ST helicopters. This AD was prompted by the discovery of bolts with nonconforming external thread root radii. This AD requires removing the affected bolts from service and prohibits installing an affected bolt on any helicopter. The FAA is issuing this AD to address the unsafe condition on these products.

DATES: This AD is effective August 11, 2020.

ADDRESSES: For service information identified in this final rule, contact Bell Textron, Inc., P.O. Box 482, Fort Worth, TX 76101; telephone 817-280-3391; fax 817-280-6466; or at https://www.bellcustomer.com. You may view the referenced service information at the FAA, Office of the Regional Counsel, Southwest Region, 10101 Hillwood Pkwy., Room 6N-321, Fort Worth, TX 76177.

Examining the AD Docket

You may examine the AD docket on the internet at https://www.regulations.gov by searching for and locating Docket No. FAA-2020-0171; or in person at Docket Operations between 9 a.m. and 5 p.m., Monday through Friday, except Federal holidays. The AD docket contains this AD, any comments received, and other information. The address for Docket Operations is U.S. Department of Transportation, Docket Operations, M 30, West Building Ground Floor, Room W12 140, 1200 New Jersey Avenue SE, Washington, DC 20590.

FOR FURTHER INFORMATION CONTACT: Haytham Alaidy, Aviation Safety Engineer, DSCO Branch, FAA, 10101 Hillwood Pkwy., Fort Worth, TX 76177; phone: 817-222-5224; fax: 817-222-4960; email haytham.alaidy@faa.gov.

SUPPLEMENTARY INFORMATION:

Discussion

The FAA issued a notice of proposed rulemaking (NPRM) to amend 14 CFR part 39 by adding an AD that would apply to Bell Model 214ST helicopters with certain serial-numbered spindle to yoke bolts (bolts) part number (P/N) 214-010-262-103 installed. The NPRM published in the Federal Register on February 26, 2020 (85 FR 11003). The NPRM was prompted by the discovery of bolts with nonconforming external thread root radii. The NPRM proposed to require removing the affected bolts from service and would prohibit installing an affected bolt on any helicopter. The FAA is issuing this AD to address the unsafe condition on these products.

Since the FAA issued the NPRM, Bell Helicopter Textron Inc., changed its name to Bell Textron Inc. This AD reflects that change and updates the contact information.

Comments

After the NPRM was published, the FAA received comments from the European Union Aviation Safety Agency (EASA). The following presents the comments received on the NPRM and the FAA's response to the comments.

Request for the FAA To Change the Applicability

Request: EASA requested that the FAA revise the applicability of the AD to include all helicopters for which the affected P/N and S/N bolts are eligible for installation. EASA stated this revision should be made in order to fully prohibit (re)installation of the affected bolt on any (other) helicopter. EASA further stated that the NPRM's applicability paragraph “excludes all helicopters that have another P/N [bolt] installed, or the same P/N but another S/N installed, but for which installation of that P/N (and any S/N thereof) is likely eligible. Since the AD does not apply to those helicopters, none of the requirements of the AD would apply either.” According to EASA, the prohibition in paragraph (g)(2) of the NPRM, which prohibits the installation on any helicopter of a bolt with a P/N and S/N listed in the applicability of the AD, could be legally disregarded by operators of helicopters that are outside the scope of the applicability of the AD.

FAA Response: The FAA disagrees. Upon installation of a bolt with a P/N and S/N listed in the applicability, the AD applies to that helicopter, and the required actions of the AD must be complied with prior to approving the helicopter for return to service. These required actions include the installation prohibition in paragraph (e)(2) of the AD. Thus, the AD prohibits the installation of an affected bolt on any Bell Model 214ST helicopters after the effective date of the AD.

FAA's Determination

The FAA has reviewed the relevant information, considered the comments received, and determined that an unsafe condition exists and is likely to exist or develop on other products of the same type design and that air safety and the public interest require adopting the AD requirements as proposed with the changes described previously. These changes are consistent with the intent proposed in the NPRM for correcting the unsafe condition and will neither increase the economic burden on any operator nor increase the scope of the AD.

Related Service Information

The FAA reviewed Bell Helicopter Textron Alert Service Bulletin 214ST-18-93 Revision A, dated April 17, 2019, for Model 214ST helicopters. This service information specifies inspecting the historical records and spare parts to determine the S/N of each bolt. If the S/N of the bolt indicates it is a non-conforming bolt, the service information specifies torque checking the bolt every 25 hours until the bolt reaches its life limit.

Differences Between This AD and the Service Information

The service information specifies torque checking the bolt every 25 hours until it is replaced upon reaching its life limit, while this AD requires removing each bolt from service within 25 hours time-in-service.

Costs of Compliance

The FAA estimates that this AD affects 16 helicopters of U.S. registry. The FAA estimates that operators may incur the following costs in order to comply with this AD. Labor costs are estimated at $85 per work-hour.

Replacing 1 bolt takes about 8 work-hours and parts cost about $7,073 for an estimated replacement cost of $7,753 per helicopter.

The FAA has no way of determining the number of bolts that might need to be replaced.

According to the manufacturer, some of the costs of this AD may be covered under warranty, thereby reducing the cost impact on affected individuals. The FAA does not control warranty coverage for affected individuals. As a result, all costs are included in this cost estimate.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD would not have federalism implications under Executive Order 13132. This AD would not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-14-01 Bell Textron Inc. (Type Certificate Previously Held by Bell Helicopter Textron Inc.): Amendment 39-21155; Docket No. FAA-2020-0171; Product Identifier 2018-SW-028-AD.

(a) Applicability

This AD applies to Bell Textron Inc. (Bell) Model 214ST helicopters, certificated in any category, with a spindle to yoke bolt (bolt) part number (P/N) 214-010-262-103 and serial number (S/N) BH179163, BH179164, BH179169, BH179170, BH179171, BH179175, BH179176, BH179178, BH224783, BH224751, BH224756, BH224764, BH224765, BH383851, BH383853, BH383855, BH383856, BH383857, BH383858, BH383860, BH383861, BH383862, BH383864, BH383865, BH383868, BH383872, BH383873, BH383878, or BH383879 installed.

(b) Unsafe Condition

This AD was prompted by the discovery that bolts have nonconforming external thread root radii. The unsafe condition, if not addressed, could result in the spindle separating from the yoke and subsequent loss of control of the helicopter.

(c) Effective Date

This AD is effective August 11, 2020.

(d) Compliance

You are responsible for performing each action required by this AD within the specified compliance time unless it has already been accomplished prior to that time.

(e) Required Actions

(1) Within 25 hours time-in-service, remove from service each bolt listed in paragraph (a) of this AD.

(2) After the effective date of this AD, do not install on any helicopter a bolt with a P/N and S/N listed in paragraph (a) of this AD.

(f) Alternative Methods of Compliance (AMOCs)

(1) The Manager, DSCO Branch, FAA, may approve AMOCs for this AD. Send your proposal to Haytham Alaidy, Aviation Safety Engineer, DSCO Branch, FAA, 10101 Hillwood Pkwy, Fort Worth, TX 76177; phone: 817-222-5224; fax: 817-222-4960; email: haytham.alaidy@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(g) Related Information

Bell Helicopter Textron Alert Service Bulletin 214ST-18-93 Revision A, dated April 17, 2019, which is not incorporated by reference, contains additional information about the subject of this AD. For service information identified in this AD, contact Bell Textron Inc., P.O. Box 482, Fort Worth, TX 76101; telephone 817-280-3391; fax 817-280-6466; or at https://www.bellcustomer.com. You may view a copy of information at the FAA, Office of the Regional Counsel, Southwest Region, 10101 Hillwood Pkwy., Room 6N-321, Fort Worth, TX 76177.

(h) Subject

Joint Aircraft Service Component (JASC) Code: 6200, Main Rotor.

Issued on June 23, 2020.
Gaetano A. Sciortino,
Deputy Director for Strategic Initiatives, Compliance & Airworthiness Division, Aircraft Certification Service.

[FR Doc. 2020-14210 Filed 7-6-20; 8:45 am]

BILLING CODE 4910-13-P